DEPARTMENT OF STATE

[Public Notice 6744]

Town Hall Meeting To Review the Implementation of the Terezin Declaration Provisions Relating to the Restitution of Nazi-Confiscated Art

The Department of State's Special Envoy for Holocaust Issues is seeking the views of interested individuals and organizations regarding the implementation of the art restitution provisions of the June 30, 2009 Terezin Declaration. The Declaration was the concluding document of the Conference on Holocaust Era Assets which met in Prague June 26-30, 2009. The Declaration text is on the Department of State Web site at http://www.state.gov/p/eur/rls/or/126162.htm.

The Department will host a Town Hall Meeting on September 22 from 9:45 a.m. to 12 noon to obtain expert views on the following:

(a) Expanding systematic provenance research;

(b) Making the results of such research available to the art community;

(c) Developing alternative mechanisms to resolve claims for artworks displaced as a result of the Holocaust and World War II.

Individuals wishing to attend this town hall meeting should register no later than September 20 by e-mailing the following information to Ms. Carolyn Jones-Johnson (Jones-JohnsonCD@state.gov): Full Name; Date of Birth;

Number of Government-issued Picture ID (Driver's License Number, including State of Issuance, U.S. Passport or Alternate Government-Issued Picture ID);

Organization which you represent, and its Address and Phone Number;

Home Address (only if attending as an individual).

Those who register are urged to arrive at the Department by 9:30 a.m. to allow time for security screening. Upon arrival, you will need to show valid government-issued identification: For example, a U.S. state driver's license or a U.S. passport. The official address of the State Department is 2201 C Street, NW., Washington, DC. Attendees should use the “23rd Street Entrance” on the West Side of the State Department's Harry S. Truman Building, located on 23rd Street between C Street and D Street, NW., Washington, DC.

Written comments on the above subjects may also be provided to the same e-mail address for Ms. Jones-Johnson cited above.

Dated: August 25, 2009.
Ambassador J. Christian Kennedy,
Special Envoy for Holocaust Issues, Department of State.

[FR Doc. E9-20935 Filed 8-28-09; 8:45 am]

BILLING CODE 4710-23-P